CORPORATION FOR NATIONAL AND COMMUNITY SERVICE

Proposed New Information Collection; Comment Request

AGENCY: Corporation for National and Community Service.

ACTION: Notice.

SUMMARY: The Corporation for National and Community Service (hereinafter the “corporation”), as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed. This form is available in alternate formats. Individuals who use a telecommunications device for the deaf (TTY/TDD) may call (202) 606-5256 between the hours of 9 a.m. and 4:30 p.m. eastern time, Monday through Friday.

Currently, the Corporation is soliciting comments concerning its proposed Program Reporting and Performance Measurement form, which is designed to collect annual program description and outcome reporting data from organizations receiving grants and/or subgrants through the Learn and Serve America program. This information will be used by the Corporation to assess the growth and development of the Learn and Serve program and to document the reported outcomes of Learn and Serve grants. Copies of the proposed information collection request may be obtained by contacting the office listed below in the ADDRESSES section of this notice.

DATES: Comments on this notice must be received by March 9, 2004, to be assured of consideration.

ADDRESSES: You may submit comments, identified by the title of the information collection activity, by any of the following methods:

(1) By mail sent to: Corporation for National and Community Service, Attn: Ms. Kimberly Spring, Department of Research and Policy Development, Room 8100, 1201 New York Avenue, NW., Washington, DC, 20525.

(2) By hand delivery or by courier to the Corporation's mailroom, Room 6010, at the mail address given in paragraph (1) above, between 9 a.m. and 4 p.m. Monday through Friday, except Federal holidays.

(3) By fax to: (202) 565-2785, Attn: Ms. Kimberly Spring, Department of Research and Policy Development.

(4) Electronically through the Corporation's e-mail address system: lsaprogramreport@cns.gov.

FOR FURTHER INFORMATION CONTACT: Kimberly Spring, (202) 606-5000, ext. 543 or lsaprogramreport@cns.gov.

SUPPLEMENTARY INFORMATION:

The Corporation is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information on those who are to respond, including through the use of appropriate automated, electronic, mechanical, or other technological collection techniques or other forms of information technology, e.g., permitting electronic submissions of responses.

Background

The Learn and Serve America Program was established by the National and Community Service Act of 1990, as amended, (42 U.S.C. 12501, et seq.) (Pub.L. 103-82) to support efforts in schools, higher education institutions and community-based organizations to involve young people in meaningful service to their communities while improving academic, civic, social and career-related skills. The Learn and Serve program is administered by the Corporation for National and Community Service and is funded through grants to states, national organizations, and institutions of higher education, and through them to individual schools and school districts, community-based organizations, and colleges or universities. The first round of grants under the Learn and Serve program were awarded in 1994. Approximately 2,000 local schools, colleges, and community-based organizations receive Learn and Serve funds each year.

The proposed data collection will provide an annual program reporting process for Learn and Serve: collecting program characteristics, output measures, and reported program outcomes. The proposed new system will be Web-based to provide for electronic submission of reporting information.

Current Action

The Corporation is seeking public comment for approval of the annual Program Reporting and Performance Measurement form. The form is designed to collect information on (a) the characteristics of grantee and subgrantee organizations; (b) the scope and structure of service-learning activities in the funded organizations; (c) numbers of participants in service-learning and hours of service provided; (d) institutional supports for service-learning, and (e) program outcomes. The Corporation anticipates that the form will be divided into three parts, corresponding to the three major funding streams under Learn and Serve America: K-12 school-based programs, Higher Education-based programs, and Community-Based programs.

Type of Review: New approval.

Agency: Corporation for National and Community Service.

Title: Program Reporting and Performance Measurement Form.

OMB Number: None.

Agency Number: None.

Affected Public: Learn and Serve America Grantees and Subgrantees.

Total Respondents: Approximately 2,000.

Frequency: Annual.

Average Time Per Response: One hour.

Estimated Total Burden Hours: 2,000 hours.

Total Burden Cost (capital/startup): None.

Total Burden Cost (operating/maintenance): None.

Comments submitted in response to this notice will be summarized and/or included in the request for Office of Management and Budget approval of the information collection request; they will also become a matter of public record.

Dated: January 5, 2004.
David A. Reingold,
Director, Office of Research and Policy Development.

[FR Doc. 04-468 Filed 1-8-04; 8:45 am]

BILLING CODE 6050-$$-P